DEPARTMENT OF THE INTERIOR

National Park Service

National Register of Historic Places; Notification of Pending Nominations

Nominations for the following properties being considered for listing in the National Register were received by the National Park Service before December 23, 2000. Pursuant to § 60.13 of 36 CFR part 60, written comments concerning the significance of these properties under the National Register criteria for evaluation may be forwarded to the National Register, National Park Service, 1849 C St., NW., NC400, Washington, DC 20240. Written comments should be submitted by January 18, 2001.

Patrick Andrus,
Acting Keeper of the National Register.

Arizona

Pima County, Todd, Charles S., House, 11511 E. Speedway Blvd., Tucson, 00001673.

California

Contra Costa County, SS Red Oak Victory (victory ship), 1500 Dornan Dr, Terminal One, Port of Richmond, Richmond, 00001674.

Florida

Palm Beach County, Pine Ridge Hospital, 1401 Division Ave., West Palm Beach, 00001675.

Iowa

Cass County, Nishnabotna Ferry House, W. Minnesota St., Lewis, 00001676.

Johnson County, Ashton, Ned, House, 820 Park Rd., Iowa City, 00001677.

Mitchell County, Deering, Nathaniel Cobb and Lucetia Baily, House, 903 State St., Osage, 00001678.

Palo Alto County, Grotto of the Redemption, 300 N. Broadway, West Bend, 00001679.

Plymouth County, Reeves Farmstead Historic District, 15991 IA 60, LeMars, 00001680.

Winneshiek County, Decorah Woolen Mill, 107 Court St., Decorah, 00001681.

Missouri

Jackson County, Kansas City Terminal Railway Company Roundhouse Historic District, Jct. of 27th St. and Southwest Blvd., Kansas City, 00001682.

New York,

Bronx County, Hertlein and Schlatter Silk Trimmings Factory, 454—464 E. 148th St., Cattaraugus County.

St. Stephen's Episcopal Church Complex, 109 S. Barry St., Olean, 00001684.

Herkimer County, Route 29 Stone Arch Bridge, NY 29, Middleville, 00001685.

Madison County, Coolidge Stores Building, (Cobblestone Architecture of New York State MPS), US 20, Bouckville, 00001686.

Montgomery County, Amsterdam City Hall, 61 Church St., Amsterdam, 00001687.

Niagara County, Niagara Falls City Hall, 745 Main St., Niagara Falls, 00001688.

Onondaga County, Edwards, O.M., Building, 501 Plum St., Syracuse, 00001689.

Schuyler County, Logan Methodist Church, Jct. of Cty. Rts. 4 and 2, Logan, 00001690.

Sullivan County, Rivoli Theatre, Jct. of NY 42 and Laurel Ave., South Fallsburg, 00001691.

Wayne County, Wolcott Square Historic District, W. Main, Park, and New Hartford Sts., Wolcott, 00001692.

[FR Doc. 01-49 Filed 1-2-01; 8:45 am]

BILLING CODE 4310-70-P